DEPARTMENT OF HEALTH AND HUMAN SERVICES

Medicare Program; 2004 Technical Review Panel on the Medicare Trustees Report

AGENCY: Assistant Secretary for Planning and Evaluation, HHS.

ACTION: Announcement.

The Review of the Assumptions and Methods of the Medicare Trustees' Financial Projections, prepared by the 2004 Technical Review Panel on the Medicare Trustees Report, is now available online at: http://aspe.hhs.gov/health/medpanel/.

The report focuses on review of the long-range growth assumptions for the Hospital Insurance (HI) and Supplementary Medical Insurance (SMI) trust funds, and the new Part D prescription drug benefit projections.

Questions regarding the report and requests for a limited number of printed copies may be directed to Andrew Cosgrove at (202) 205-8681 or Andrew.Cosgrove@hhs.gov.

Dated: January 14, 2005.
Michael J. O'Grady,
Assistant Secretary for Planning and Evaluation.

[FR Doc. 05-1308 Filed 1-24-05; 8:45 am]

BILLING CODE 4150-05-P